DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is updating the public listing of four entities whose property and interests in property are blocked pursuant to the Foreign Narcotics Kingpin Designation Act (“Kingpin Act”) (21 U.S.C. 1901-1908, 8 U.S.C. 1182). These entities were previously Blocked Pending Investigation and their listings will be updated to Blocked pursuant to the Kingpin Act.

DATES: The identification as blocked by the Director of OFAC of the four entities in this notice, pursuant to section 805(b) of the Kingpin Act, is effective on April 28, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treasury.gov/ofac) or via facsimile through a 24-hour fax-on demand service, tel.: (202) 622-0077.

Background

The Kingpin Act became law on December 3, 1999. The Kingpin Act establishes a program targeting the activities of significant foreign narcotics traffickers and their organizations on a worldwide basis with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of foreign persons he determines to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 28, 2011, the Director of OFAC determined that the four entities identified in this notice that were previously Blocked Pending Investigation are Blocked pursuant to section 805(b) of the Kingpin Act.

OFAC has made changes to the listings of the following four entities which were previously Blocked Pending Investigation pursuant to the Kingpin Act:

1. IAC INTERNATIONAL INC. (a.k.a. I A C INTERNATIONAL INC.; a.k.a. INTERNATIONAL AIRLINE CONSULTING); 8940 NW 24 Terrace, Miami, FL 33122; Business Registration Document #P9800004558 (United States); US FEIN 65-0842701 [BPI-SDNTK]

2. AERO CONTINENTE (USA) INC. (a.k.a. AERO CONTINENTE, Inc.), 2858 NW 79 Avenue, Miami, FL 33122; Business Registration Document #P94000013372 (United States); US FEIN 65-0467983 [BPI-SDNTK]

3. CARGO AIRCRAFT LEASING CORP., 2310 NW 55th Court, Ft. Lauderdale, FL 33309; Business Registration Document #93000004034 (United States); US FEIN 65-0389435 [BPI-SDNTK]

4. INTERNATIONAL PACIFIC TRADING, INC., 2858 NW 79 Avenue, Miami, FL; US FEIN 65-0315268 (United States); Business Registration Document #V16155 (United States); US FEIN 65-0315268 [BPI-SDNTK]

The listings for these four entities have been updated to Blocked and appear as follows:

1. IAC INTERNATIONAL INC. (a.k.a. I A C INTERNATIONAL INC.; a.k.a. INTERNATIONAL AIRLINE CONSULTING); Miami, FL; Business Registration Document #P9800004558 (United States); US FEIN 65-0842701 [SDNTK]

2. AERO CONTINENTE (USA) INC. (a.k.a. AERO CONTINENTE, INC.), Miami, FL; Business Registration Document #P94000013372 (United States); US FEIN 65-0467983 [SDNTK]

3. CARGO AIRCRAFT LEASING CORP., Ft. Lauderdale, FL; Business Registration Document #93000004034 (United States); US FEIN 65-0389435 [SDNTK]

4. INTERNATIONAL PACIFIC TRADING, INC., Miami, FL; Business Registration Document #V16155 (United States); US FEIN 65-0315268 [SDNTK]

Dated: April 28, 2011.
Adam J. Szubin,
Director, Office of Foreign Assets Control.

[FR Doc. 2011-10786 Filed 5-3-11; 8:45 am]

BILLING CODE 4811-45-P